DEPARTMENT OF TRANSPORTATION

Federal Aviation Administration

14 CFR Part 39

[Docket No. FAA-2006-24289; Directorate Identifier 2005-NM-186-AD]

RIN 2120-AA64

Airworthiness Directives; Airbus Model A300 B2 and A300 B4 Series Airplanes; Model A300 B4-600, B4-600R, and F4-600R Series Airplanes, and Model A300 C4-605R Variant F Airplanes (Collectively Called A300-600 Series Airplanes); and A310-200 and -300 Series Airplanes

AGENCY: Federal Aviation Administration (FAA), Department of Transportation (DOT).

ACTION: Notice of proposed rulemaking (NPRM).

SUMMARY: The FAA proposes to adopt a new airworthiness directive (AD) for all Airbus airplanes identified above. This proposed AD would require improving the routing of certain electrical wire bundles in certain airplane zones, as applicable to the airplane model. This proposed AD results from fuel system reviews conducted by the manufacturer. We are proposing this AD to reduce the potential of ignition sources inside fuel tanks, which, in combination with flammable fuel vapors, could result in fuel tank explosions and consequent loss of the airplane.

DATES: We must receive comments on this proposed AD by May 4, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, Transport Airplane Directorate, FAA, 1601 Lind Avenue, SW., Renton, Washington 98055-4056; telephone (425) 227-1622; fax (425) 227-1149.

SUPPLEMENTARY INFORMATION:

Comments Invited

We invite you to submit any relevant written data, views, or arguments regarding this proposed AD. Send your comments to an address listed in the ADDRESSES section. Include the docket number “FAA-2006-24289; Directorate Identifier 2005-NM-186-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (67 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with another latent condition(s), and in-service failure experience. For all four criteria, the evaluations included consideration of previous actions taken that may mitigate the need for further action.

The Joint Aviation Authorities (JAA) has issued a regulation that is similar to SFAR 88. (The JAA is an associated body of the European Civil Aviation Conference (ECAC) representing the civil aviation regulatory authorities of a number of European States who have agreed to co-operate in developing and implementing common safety regulatory standards and procedures.) Under this regulation, the JAA stated that all members of the ECAC that hold type certificates for transport category airplanes are required to conduct a design review against explosion risks.

The Direction Générale de l'Aviation Civile (DGAC), which is the airworthiness authority for France, notified us that an unsafe condition may exist on certain Airbus Model A300 B2 and A300 B4, A300-600, A310-200, and A310-300 series airplanes. The DGAC recommends improving the routing of certain electrical wire bundles in certain airplane zones to minimize the risk of explosion. We have determined that the actions identified in this AD are necessary to reduce the potential of ignition sources inside fuel tanks, which, in combination with flammable fuel vapors, could result in fuel tank explosions and consequent loss of the airplane.

Relevant Service Information

Airbus has issued the service bulletins identified below. These service bulletins describe procedures for six different actions related to improving the routing of certain electrical wire bundles in certain airplane zones, as applicable to the airplane model. Each action is described in detail after the table.

Airbus Service Bulletins
Action | Applicable to model— | Described in service bulletin— | Prior or concurrent action—
| A300 B2 and A300 B4 series airplanes | A300-28-0057, Revision 02, dated January 8, 2001 | None.
| A300-600 series airplanes | A300-28-6018, Revision 1, dated September 15, 1988 | None.
2 | A300 B2 and A300 B4 series airplanes | A300-28-0070, Revision 01, dated March 18, 1999 | None.
| A300-600 series airplanes | A300-28-6048, dated September 19, 1996 | Do a visual inspection for damage (chafing and burn marks) of the protective conduits behind specified access doors, and replace or repair any damaged wires, in accordance with Airbus Service Bulletin A300-28-6010, Revision 1, dated September 17, 1986.
| A310-200 and -300 Series Airplanes | A310-28-2112, dated September 19, 1996 | Do a visual inspection for damage (chafing and burn marks) of the protective conduits behind specified access doors, and replace or repair any damaged wires, in accordance with Airbus Service Bulletin A310-28-2008, Revision 2, dated May 14, 1990.
3 | A300 B2 and A300 B4 series airplanes | A300-24-0085, Revision 06, dated October 13, 2005 | Do repetitive inspections of the wire looms on the wing trailing edge for improperly held wires in the clamps, repair any damaged wires, restore the electrical bundles to good condition, and replace the affected nylon clamps with metallic clamps that have white silicone lining, in accordance with Airbus Service Bulletin A300-24-0073, Revision 04, dated June 30, 1998.
| A300-600 series airplanes | A300-24-6043, Revision 06, dated October 13, 2005 | Do repetitive inspections of the wire looms on the wing trailing edge for improperly held wires in the clamps, repair any damaged wires, restore the electrical bundles to good condition, and replace the affected nylon clamps with metallic clamps that have white silicone lining, in accordance with Airbus Service Bulletin A300-24-6004, Revision 03, dated June 30, 1998.
4 | A300-600 series airplanes | A300-28-6056, dated February 18, 1998 | None.
5 | A300-600 series airplanes | A300-24-6004, Revision 03, dated June 30, 1998 | None.
| A310-200 and -300 Series Airplanes | A310-24-2009, Revision 03, dated June 30, 1998 | None.
6 | A300 B2 and A300 B4 series airplanes | A300-24-0100, dated April 7, 2005 | None.
| A300-600 series airplanes | A300-24-6084, Revision 01, dated June 28, 2005 | None.
| A310-200 and -300 Series Airplanes | A310-24-2091, dated March 4, 2005 | None.

Action 1—Install a heat-shrinkable sleeve along the complete length of the electrical supply bundle of the fuel pumps. These electrical supply bundles are located in metallic protective conduits in zones 571 and 671.

Action 2—Install a heat-shrinkable sleeve along the complete length of the electrical supply bundle of the fuel pumps. These electrical supply bundles are located in metallic protective conduits in zones 575 and 675.

Action 3—Modify the retaining and protection system for the electrical bundles located at the wing-to-fuselage junctions, under the flap control screw jack. The modification involves installing a modified blanking plate and its related hardware, inspecting the bundles for damaged wires, repairing the wires if necessary, installing protective tape, and adding clamping to the bundles in order to improve their fastening capability. For some airplane models, Action 5 or Action 6 is necessary before or concurrently with this action.

Action 4—Modify the electrical wiring of routes 1P and 2P (along the top panel of the shroud box and the rear spars of the wings) by extending the protective conduits up to the next support, and replace the two existing clamps on this support with new improved clamps.

Action 5—Do repetitive inspections of the wire looms on the wing trailing edge for improperly held wires in the clamps, repair any damaged wires, restore the electrical bundles to good condition, and replace the affected nylon clamps with metallic clamps that have white silicone lining.

Action 6—Replace the nylon clamps of the electrical routes in the hydraulic compartment and in the shroud box with new metallic clamps that have white silicone lining (for Model A310-200 and -300 series airplanes); or replace the nylon clamps and change the location of routes 1P and 2P to improve the retention of the wiring loom (for all other affected models).

Accomplishing the actions specified in the service information is intended to adequately address the unsafe condition. The DGAC mandated the service information and issued French airworthiness directive F-2005-112 R1, dated September 14, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in the service information described previously.

Clarification of Inspection Terminology

In this proposed AD, the “inspection” specified in Airbus Service Bulletins A300-24-0073, A300-24-0085, A300-24-6004, A300-24-6043, and A310-24-2009; and the “visual inspection” specified in Airbus Service Bulletin A310-28-2008; are referred to as a “general visual inspection.” We have included the definition for a general visual inspection in a note in the proposed AD.

Costs of Compliance

This proposed AD would affect about 169 airplanes of U.S. registry. The following table provides the estimated costs for U.S. operators to comply with this proposed AD. The average labor rate is $80 per work hour.

Estimated Costs
For airplanes on which this action is required— | Work hours | Parts | Cost per airplane
Action 1, Install heat-shrinkable wrap (zones 571 and 671) | 10 | Operator Supplied | $800.
Action 2, Install heat-shrinkable wrap (zones 575 and 675) | 16 to 37 | $1,533 to $1,790 | $2,813 to $4,750.
Action 3, Modify the retaining and protection system | 4 to 16 | $836 to $1,056 | $1,156 to $2,336.
Action 4, Modify the electrical wiring of routes 1P and 2P | 2 | $720 | $880.
Action 5, Inspect the wire looms on the wing trailing edge | 8 | Operator Supplied | $640.
Action 6, Replace the nylon clamps of the electrical routes in the hydraulic compartment and in the shroud box | 44 to 98 | $100 to $5,700 | $3.620 to $13,540.

Based on these figures, the estimated cost of the proposed AD for U.S. operators is up to $3,877,874, or up to $22,946 per airplane.

The following table provides the estimated costs for U.S. operators to comply with the applicable prior or concurrent requirements in this proposed AD.

Estimated Costs—Prior or Concurrent Requirements
Action— | Work hours | Parts | Cost per airplane
Inspect the wire looms on the wing trailing edge for improperly held wires, in accordance with Airbus Service Bulletin A300-24-6004 | 8 | None | $640.
Inspect for damage of the protective conduits behind specified access doors in accordance with Airbus Service Bulletin A300-28-6010 or A310-28-2008, as applicable | 4 to 7 | None | $320 to $560.
Inspect the wire looms on the wing trailing edge for improperly held wires in accordance with Airbus Service Bulletin A300-24-0073 | 8 | None | $640.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-24289; Directorate Identifier 2005-NM-186-AD.

Comments Due Date

(a) The FAA must receive comments on this AD action by May 4, 2006.

Affected ADs

(b) None.

Applicability

(c) This AD applies to all Airbus Model A300 B2-1A, B2-1C, B2K-3C, B2-203, B4-2C, B4-103, and B4-203 airplanes; Model A300 B4-601, B4-603, B4-620, B4-622, B4-605R, B4-622R, F4-605R, F4-622R, and Model C4-605R Variant F airplanes; and A310-203, -204, -221, -222, -304, -322, -324, and -325 airplanes; certificated in any category.

Unsafe Condition

(d) This AD results from fuel system reviews conducted by the manufacturer. We are issuing this AD to reduce the potential of ignition sources inside fuel tanks, which, in combination with flammable fuel vapors, could result in fuel tank explosions and consequent loss of the airplane.

Compliance

(e) You are responsible for having the actions required by this AD performed within the compliance times specified, unless the actions have already been done.

Action 1—Install Heat-Shrinkable Sleeve, Zones 571 and 671

(f) For all airplanes identified in paragraphs (f)(1) and (f)(2) of this AD: Within 26 months after the effective date of this AD, install a heat-shrinkable sleeve along the complete length of the electrical supply bundles for the fuel pumps. These electrical supply bundles are located in metallic protective conduits in zones 571 and 671.

(1) For Model A300 B2-1A, B2-1C, B2K-3C, B2-203, B4-2C, B4-103, and B4-203 airplanes: Do the action specified in paragraph (f) of this AD in accordance with the Accomplishment Instructions of Airbus Service Bulletin A300-28-0057, Revision 02, dated January 8, 2001.

(2) For Model A300 B4-601, B4-603, B4-620, B4-622, A300 B4-605R, B4-622R, F4-605R, F4-622R, and A300 C4-605R Variant F airplanes; except those on which Airbus Modification 6803 has been done: Do the action specified in paragraph (f) of this AD in accordance with the Accomplishment Instructions of Airbus Service Bulletin A300-28-6018, Revision 1, dated September 15, 1988.

Action 2—Install Heat-Shrinkable Sleeve, Zones 575 and 675

(g) For all airplanes identified in paragraphs (g)(1), (g)(2), and (g)(3) of this AD: Within 26 months after the effective date of this AD, install a heat-shrinkable sleeve along the complete length of the electrical supply bundles for the fuel pumps. These electrical supply bundles are located in metallic protective conduits in zones 575 and 675. For airplanes identified in paragraphs (g)(2) and (g)(3) of this AD: Prior to or concurrently with this installation, do a general visual inspection for damage of the protective conduits behind specified access doors, and do any applicable corrective action before further flight; in accordance with the Accomplishment Instructions of Airbus Service Bulletin A300-28-6010, Revision 1, dated September 17, 1986; or Airbus Service Bulletin A310-28-2008, Revision 2, dated May 14, 1990; as applicable.

(1) For Model A300 B2-1A, B2-1C, B2K-3C, B2-203, B4-2C, B4-103, and B4-203 airplanes: Do the actions specified in paragraph (g) of this AD in accordance with the Accomplishment Instructions of Airbus Service Bulletin A300-28-0070, Revision 01, dated March 18, 1999.

(2) For Model A300 B4-601, B4-603, B4-620, B4-622, A300 B4-605R, B4-622R, F4-605R, F4-622R, and A300 C4-605R Variant F airplanes; except those on which Airbus Modification 10505 has been done: Do the actions specified in paragraph (g) of this AD in accordance with the Accomplishment Instructions of Airbus Service Bulletin A300-28-6048, dated September 19, 1996.

(3) For Model A310-203, -204, -221, -222, -304, -322, -324, and -325 airplanes, except those on which Airbus Modification 10505 has been done: Do the actions specified in paragraph (g) of this AD in accordance with the Accomplishment Instructions of Airbus Service Bulletin A310-38-2112, dated September 19, 1996.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Action 3—Modify the Retaining and Protection System

(h) For all airplanes identified in paragraphs (h)(1), and (h)(2) of this AD: Within 26 months after the effective date of this AD, modify the retaining and protection system for the electrical bundles located at the wing-to-fuselage junction, under the flap control screw jack. Prior to or concurrently with this action for airplanes identified in paragraphs (h)(1) and (h)(2) of this AD: Do a general visual inspection for improperly held wires of the wire looms on the wing trailing edge, restore the electrical bundles to good condition, and replace the affected nylon clamps with metallic clamps that have white silicone lining; and do any applicable corrective action before further flight; in accordance with the Accomplishment Instructions of Airbus Service Bulletin A300-24-0073, Revision 04, dated June 30, 1998; or Airbus Service Bulletin A300-24-6004, Revision 03, dated June 30, 1998; as applicable.

(1) For Model A300 B2-1A, B2-1C, B2K-3C, B2-203, B4-2C, B4-103, and B4-203 airplanes: Do the actions specified in paragraph (h) of this AD in accordance with the Accomplishment Instructions Airbus Service Bulletin A300-24-0085, Revision 06, dated October 13, 2005.

(2) For Model A300 B4-601, B4-603, B4-620, B4-622, A300 B4-605R, B4-622R, F4-605R, F4-622R, and A300 C4-605R Variant F airplanes, except those on which Airbus Modification 11276 has been done: Do the action specified in paragraph (h) of this AD in accordance with the Accomplishment Instructions Airbus Service Bulletin A300-24-6043, Revision 06, dated October 13, 2005.

Action 4—Modify the Electrical Wiring of Routes 1P and 2P

(i) For Model A300 B4-601, B4-603, B4-620, B4-622, A300 B4-605R, B4-622R, F4-605R, F4-622R, and A300 C4-605R Variant F airplanes; except those on which Airbus Modification 11741 has been done: Within 26 months after the effective date of this AD, modify the electrical wiring of routes 1P and 2P (along the top panel of the shroud box and the rear spars of the wings) by extending the protective conduits up to the next support, and replace the two existing clamps on this support with new improved clamps. Do all actions in accordance with the Accomplishment Instructions of Airbus Service Bulletin A300-28-6056, dated February 18, 1998.

Action 5—Inspect the Wire Looms

(j) For all airplanes identified in paragraphs (j)(1) and (j)(2) of this AD: Within 24 months after the effective date of this AD, do a general visual inspection of the wire looms on the wing trailing edge for improperly held wires in the clamps, restore the electrical bundles to good condition, and replace the affected nylon clamps with metallic clamps that have an elastometer lining. Do any applicable corrective action before further flight. Repeat the inspection thereafter at intervals not to exceed 24 months until all clamps have been replaced.

(1) For Model A300 B4-601, B4-603, B4-620, B4-622, B4-605R, B4-622R, F4-605R, F4-622R, and A300 C4-605R Variant F airplanes; except those on which Airbus Modification 6478 has been done: Do the actions specified in paragraph (j) of this AD in accordance with the Accomplishment Instructions Airbus Service Bulletin A300-24-6004, Revision 03, dated June 30, 1998.

(2) For Model A310-203, -204, -221, -222, -304, -322, -324, and -325 airplanes, except those on which Airbus Modification 478 has been done: Do the actions specified in paragraph (j) of this AD in accordance with the Accomplishment Instructions Airbus Service Bulletin A310-24-2009, Revision 03, dated June 30, 1998.

Action 6—Improve the Quality of the Electrical Routes

(k) For all airplanes identified in paragraphs (k)(1), (k)(2), and (k)(3) of this AD: Within 26 months after the effective date of this AD, replace the nylon clamps of the electrical routes in the hydraulic compartment and in the shroud box with new metallic clamps that have white silicone lining (for airplanes identified in paragraph (k)(1) of this AD); or replace the nylon clamps and change the location of routes 1P and 2P to improve the retention of the wiring loom (for airplanes identified in paragraphs (k)(2) and (k)(3) of this AD).

(1) For Model A300 B2-1A, B2-1C, B2K-3C, B2-203, B4-2C, B4-103, and B4-203 airplanes; except those on which Airbus Modification 11763 has been done: Do the action specified in paragraph (k) of this AD in accordance with the Accomplishment Instructions Airbus Service Bulletin A300-24-0100, dated April 7, 2005.

(2) For Model A300 B4-601, B4-603, B4-620, B4-622, B4-605R, B4-622R, F4-605R, F4-622R, and A300 C4-605R Variant F airplanes; except those on which Airbus Modifications 11763 and 12995 have been done: Do the action specified in paragraph (k) of this AD in accordance with the Accomplishment Instructions Airbus Service Bulletin A300-24-6084, Revision 01, dated June 28, 2005.

(3) For Model A310-203, -204, -221, -222, -304, -322, -324, and -325 airplanes, except those on which Airbus Modification 11763 has been done: Do the action specified in paragraph (k) of this AD in accordance with the Accomplishment Instructions as identified in Airbus Service Bulletin A310-24-2091, dated March 4, 2005.

Parts Installation

(l) After the effective date of this AD, no person may install on any airplane plate assemblies with part numbers A5351088000000 or A5351088000100 unless they have been modified in accordance with paragraph (h) of this AD.

Actions Accomplished According to Previous Revisions of Service Bulletins

(m) Actions done before the effective date of this AD in accordance with the service bulletins identified in Table 1 of this AD are acceptable for compliance with the corresponding requirement in this AD.

Table 1.—Previous Revisions of Service Bulletins
Airbus service bulletin | Revision level | Date
A300-28-0070 | Original | September 19, 1996.
A300-24-0073 | 3 | February 24, 1995.
A300-24-0085 | Original | December 12, 1994.
A300-24-0085 | 03 | January 17, 1996.
A300-24-0085 | 04 | July 23, 1996.
A300-24-0085 | 05 | March 6, 2001.
A300-28-057 | 1 | September 15, 1988.
A300-24-073 | Original | June 9, 1986.
A300-24-073 | 1 | January 28, 1988.
A300-24-073 | 2 | September 10, 1990.
A300-24-6004 | 1 | January 28, 1988.
A300-24-6004 | 2 | February 24, 1995.
A300-28-6018 | Original | June 21, 1988.
A300-24-6043 | Original | December 12, 1994.
A300-24-6043 | 01 | February 7, 1995.
A300-24-6043 | 02 | May 10, 1995.
A300-24-6043 | 03 | January 17, 1996.
A300-24-6043 | 04 | March 6, 2001.
A300-24-6043 | 05 | August 30, 2001.
A300-24-6084 | Original | March 4, 2005.
A310-24-2009 | Original | May 31, 1985.
A310-24-2009 | 1 | January 28, 1988.
A310-24-2009 | 2 | February 24, 1995.

Alternative Methods of Compliance (AMOCs)

(n)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(o) French airworthiness directive F-2005-112 R1, dated September 14, 2005, also addresses the subject of this AD.

Issued in Renton, Washington, on March 24, 2006.
Ali Bahrami,
Manager, Transport Airplane Directorate, Aircraft Certification Service.

[FR Doc. E6-4825 Filed 4-3-06; 8:45 am]

BILLING CODE 4910-13-P